DEPARTMENT OF ENERGY

Federal Energy Regulatory Commission

[Docket No. EL11-56-000]

FirstEnergy Service Co. v. Midwest Independent Transmission System Operator, Inc.; Notice of Petition for Declaratory Order and Complaint

Take notice that on August 3, 2011, FirstEnergy Service Company filed a petition for declaratory order asking that the Commission declare that Multi-Value Project (MVP) transmission usage charges proposed by the Midwest Independent Transmission System Operator, Inc. (Midwest ISO) in Docket No. ER10-1791 may not, by their own terms, be imposed on departing transmission owners or loads. In the alternative, First Energy Service Co. filed a formal complaint, pursuant to section 206 of the Federal Power Act and Rule 206 of the Commission's Rules of Practice and Procedure, alleging that it is unjust and unreasonable to apply MVP transmission usage charges to FirstEnergy or its customers migrated from the Midwest ISO to PJM Interconnection, LLC effective June 1, 2011.

FirstEnergy certifies that copies of the complaint were served on the contacts for the Midwest ISO as listed on the Commission's list of Corporate Officials and on parties to the proceeding in Docket No. ER10-1791.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 2, 2011.

Dated: August 5, 2011.
Kimberly D. Bose,
Secretary.

[FR Doc. 2011-20433 Filed 8-10-11; 8:45 am]

BILLING CODE 6717-01-P